DEPARTMENT OF HOMELAND SECURITY

Office of the Secretary

Homeland Security Advisory Council

AGENCY: Office of the Secretary, DHS.

ACTION: Notice of Federal Advisory Committee meeting.

SUMMARY: The Homeland Security Advisory Council (HSAC) will hold a meeting for the purposes of receiving reports and briefings, and holding member deliberations. The HSAC will receive reports from: the HSAC Task Force on Intelligence and Information Sharing and State Fusion Centers, Chaired by Governor Mitt Romney, Governor of Massachusetts; the HSAC Task Force on Private Sector Information Sharing, Chaired by Mayor Patrick McCrory, Mayor of Charlotte, North Carolina; the HSAC Task Force on Critical Infrastructure Protection and Resilience, Chaired by Dr. Ruth David, CEO of Analytic Services, Inc.; and the HSAC Task Force on the Prevention of Weapons of Mass Effect Attacks on American Soil, Chaired by Dr. Lydia Thomas, CEO of Mitretek Systems. Additionally, the HSAC will receive detailed briefings covering specific critical infrastructure vulnerabilities, interdependencies, infrastructure resilience, and vulnerability mitigation. The HSAC will also hold roundtable deliberations and discussions among HSAC members.

DATES: This meeting will be held in Charlotte, North Carolina on Tuesday, March 22, 2005.

ADDRESSES: This meeting will be partially closed; the open portions of the meeting for the purpose of receiving the Task Force reports listed above will be held at the Westin Charlotte, 601 South College Street, Charlotte, NC 28202 in Grand Ballroom “D” from 9:30 a.m. to 11:30 a.m. The closed portions of the meeting, for the purposes of addressing administrative matters and receiving the detailed critical infrastructure briefings listed above will be held in a separate venue closed to the public at the Westin Charlotte, 601 South College Street, Charlotte, NC 28202 from 11:45 a.m. to approximately 3 p.m.

You may submit comments, identified by docket number, by one of the following methods:

• EPA Federal Partner EDOCKET Web Site: http://www.epa.gov/feddocket. Follow instructions for submitting comments on the Web site. The Department of Homeland Security has joined the Environmental Protection Agency (EPA) online public docket and comment system on its Partner Electronic Docket System (Partner EDOCKET). The Department of Homeland Security and its agencies (excluding the United States Coast Guard and Transportation Security Administration) will use the EPA Federal Partner EDOCKET system. The USCG and TSA (legacy Department of Transportation (DOT) agencies) will continue to use the DOT Docket Management System until full migration to the electronic rulemaking Federal docket management system in 2005.

• Federal eRulemaking Portal: http://www.regulations.gov. Follow the instructions for submitting comments.

• E-mail: HSAC@dhs.gov. Include docket number in the subject line of the message.

• Fax: (202) 772-9718.

• Mail: Mike Miron, Homeland Security Advisory Council, Department of Homeland Security, Washington, DC 20528.

Instructions: All submissions received must include the agency name and docket number for this notice. All comments received will be posted without change to http://www.epa.gov/feddocket, including any personal information provided.

Docket: For access to the docket to read background documents or comments received, go to http://www.epa.gov/feddocket. You may also access the Federal eRulemaking Portal at http://www.regulations.gov.

FOR FURTHER INFORMATION CONTACT: For additional information concerning the meeting, please contact Mike Miron or an Executive Staff Member of the HSAC via e-mail at HSAC@dhs.gov, or via phone at 202-692-4283.

SUPPLEMENTARY INFORMATION:

Public Attendance: A limited number of members of the public may register to attend the public session on a first-come, first-served basis per the procedures that follow. Security requires that any member of the public who wishes to attend the public session provide his or her name and date of birth no later than 5 p.m., e.s.t., Tuesday, March 15, 2005, to Mike Miron or an Executive Staff Member of the HSAC via e-mail at HSAC@dhs.gov, or via phone at (202) 692-4283. Persons with disabilities who require special assistance should indicate so in their admittance request and are encouraged to indicate their desires to attend and anticipated special needs as early as possible. Photo identification will be required for entry into the public session, and everyone in attendance must be present and seated by 9:15 a.m.

Basis for Closure: In accordance with section 10(d) of the Federal Advisory Committee Act, Public Law 92-463, as amended (5 U.S.C. app. 1 et seq.), the Secretary has issued a determination that portions of this HSAC meeting (referenced above as “closed”) will concern matters excluded from Open Meetings requirements.

In particular, the administrative portion of the meeting will be conducted “solely to discuss administrative matters of the advisory committee.” Accordingly, it will be closed pursuant to 41 CFR 102-3.160(b).

At portions of the meeting where the committee will be addressing specific critical infrastructure vulnerabilities; interdependencies; infrastructure resilience; vulnerability mitigation; and investigative strategies designed to identify and expose money laundering schemes to prosecution. Discussions will include trade secrets and commercial or financial information that is privileged or confidential, and matters which, if disclosed, would be likely to frustrate significantly the implementation of a proposed agency action which has not been disclosed to the public nor is required by law to be disclosed to the public. Accordingly, the Secretary has determined that these portions of the meeting must be kept closed as well, pursuant to 5 U.S.C. app. 10(d), 5 U.S.C. 552b(c)(4), and 5 U.S.C. 552b(c)(9)(B).

Dated: March 2, 2005.
Michael Chertoff,
Secretary of The Department of Homeland Security.

[FR Doc. 05-4381 Filed 3-4-05; 8:45 am]

BILLING CODE 4410-10-P